DEPARTMENT OF STATE

[Public Notice: 12212]

Notice of Determinations; Culturally Significant Objects Being Re-imported for Exhibition—Determinations: “Wolfgang Tillmans: To Look Without Fear” Exhibition

SUMMARY: On June 3, 2022, notice was published on page 33866 of the Federal Register (volume 87, number 107) of determinations pertaining to certain objects to be included in an exhibition entitled “Wolfgang Tillmans: To look without fear” at The Museum of Modern Art in New York. Notice is hereby given of the following determinations: I hereby determine that the same objects, which are being re-imported from abroad pursuant to agreements with their foreign owners or custodians for temporary display in the aforementioned exhibition at the San Francisco Museum of Modern Art, San Francisco, California, and at possible additional exhibitions or venues yet to be determined, are of cultural significance, and, further, that their temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Nicole L. Elkon,
Deputy Assistant Secretary for Professional and Cultural Exchanges, Bureau of Educational and Cultural Affairs, Department of State.

[FR Doc. 2023-22359 Filed 10-6-23; 8:45 am]

BILLING CODE 4710-05-P